DEPARTMENT OF DEFENSE

Department of the Army, Corps of Engineers

33 CFR Part 334

Department of Air Force, Wisconsin Air National Guard Danger Zone, R-6903, Lake Michigan, Sheboygan County, Wisconsin

AGENCY: United States Army Corps of Engineers, DoD.

ACTION: Notice of proposed rulemaking and request for comments.

SUMMARY: The U.S. Corps of Engineers is proposing regulations to reestablish a Danger Zone in Lake Michigan offshore from Sheboygan County, Wisconsin. These regulations will enable the Wisconsin Air National Guard (WiANG) to ensure the safety of fishermen and mariners in the vicinity of a live fire exercise area, which is located off the Wisconsin shoreline in Lake Michigan from Manitowoc to Port Washington, Wisconsin. The regulations are necessary to protect fishermen and mariners from potentially hazardous conditions which may exist as a result of WiANG's use of the area.

DATES: Written comments must be submitted on or before April 10, 2002.

ADDRESSES: U. S Army Corps of Engineers, ATTN: CECW-OR, 441 G Street, NW., Washington, DC 20314-1000.

FOR FURTHER INFORMATION CONTACT: Mr. Frank Torbett, Headquarters Regulatory Branch, Washington, D.C. at (202) 761-4618, or Mr. Howard J. Ecklund, Corps of Engineers, St. Paul District, Regulatory Branch, at (262) 547-4171.

SUPPLEMENTARY INFORMATION: Pursuant to its authorities in Section 7 of the Rivers and Harbors Act of 1917 (40 Stat. 266; 33 U.S.C. 1) and Chapter XIX, of the Army Appropriations Act of 1919 (40 Stat. 892; 33 U.S.C. 3) the Corps proposes to amend the restricted area regulations in 33 CFR part 334 by adding section 334.845 which establishes a danger zone in Lake Michigan offshore from Manitowoc and Sheboygan Counties, Wisconsin. The public currently has unrestricted access to the waters of Lake Michigan in close proximity to WiANG's exercise area. To better protect fishermen and mariners, the WiANG has requested the Corps of Engineers establish this danger zone that will enable the WiANG to continue to use this area to maintain its combat mission readiness.

Procedural Requirements

a. Review under Executive Order 12866

This proposed rule is issued with respect to a military function of the Defense Department and the provisions of Executive Order 12866 do not apply.

b. Review under the Regulatory Flexibility Act

These proposed rules have been reviewed under the Regulatory Flexibility Act (Public Law 96-354) which requires the preparation of a regulatory flexibility analysis for any regulation that will have a significant economic impact on a substantial number of small entities (i.e., small businesses and small Governments). The Corps expects that the economic impact of the reestablishment of this danger zone would have practically no impact on the public, no anticipated navigational hazard or interference with existing waterway traffic and accordingly, certifies that this proposal if adopted, will have no significant economic impact on small entities.

c. Review under the National Environmental Policy Act

An environmental assessment has been prepared for this action. We have concluded, based on the minor nature of the proposed danger zone regulations, that this action, if adopted, will not have a significant impact to the quality of the human environment, and preparation of an environmental impact statement is not required. The environmental assessment may be reviewed at the District office listed at the end of FOR FURTHER INFORMATION CONTACT paragraph above.

d. Unfunded Mandates Act

This proposed rule does not impose an enforceable duty among the private sector and, therefore, it is not a Federal private sector mandate and it is not subject to the requirements of either Section 202 or Section 205 of the Unfunded Mandates Act. We have also found under Section 203 of the Act, that small Governments will not be significantly and uniquely affected by this rulemaking.

List of Subjects in 33 CFR Part 334

Danger zones, Marine safety, Navigation (water), Restricted areas, Waterways.

For the reasons set out in the preamble, the Corps proposes to amend 33 CFR part 334, as follows:

PART 334—DANGER ZONE AND RESTRICTED AREA REGULATIONS

1. The authority citation for 33 CFR part 334 continues to read as follows:

Authority: 40 Stat. 266 (33 U.S.C. 1) and 40 Stat. 892 (33 U.S.C. 3).

2. Section 334.845 would be added to read as follows:

§ 334.845 Wisconsin Air National Guard, Volk Field military exercise area located in Lake Michigan offshore from Manitowoc and Sheboygan Counties; Danger Zone.

(a) The area. The waters within an area beginning at a point at latitude 43°19′00″ N., longitude 87°41′00″ W.; to latitude 44°05′30″ N, longitude 87°29′45″ W.; to latitude 44°02′00″ N., longitude 87°02′30″ W.; to latitude 43°15′30″ N., longitude 87°14′00″ W.; thence to the point of beginning.

(b) The regulation. (1) All vessels entering the danger zone shall proceed across the area by the most direct route and without unnecessary delay.

(2) No vessel or craft of any size shall lie-to or anchor in the danger zone at any time other than a vessel operated by or for the U.S. Coast Guard, local, State, or Federal law enforcement agencies.

(c) Enforcement. The regulation in this section shall be enforced by the Commanding Officer, Volk Field, WI and/or persons or agencies as he/she may designate.

Dated: February 26, 2002.
Lawrence A. Lang,
Deputy, Operations Division, Directorate of Civil Works.

[FR Doc. 02-5655 Filed 3-8-02; 8:45 am]

BILLING CODE 3710-92-P